DEPARTMENT OF THE INTERIOR

Fish and Wildlife Service

50 CFR Parts 13 and 21

[Docket No. FWS-R9-MB-2009-0045; FF09M21200-134-FXMB1232099BPP0]

RIN 1018-AW75

Migratory Bird Permits; Abatement Permit Regulations; Correction

AGENCY: Fish and Wildlife Service, Interior.

ACTION: Proposed rule; correction.

SUMMARY: We, the U.S. Fish and Wildlife Service (Service), published a proposed rule in the Federal Register on April 1, 2015, to propose permit regulations to govern the use of captive-bred, trained raptors to control or take birds or other wildlife to mitigate damage or other problems, including risks to human health and safety. In that proposed rule, we provided a partially incorrect address for the submission of hard-copy comments and some incorrect information regarding information collection requirements. With this document, we correct these errors.

DATES: There are two dates for submissions relevant to the proposed rule that published on April 1, 2015 (80 FR 17374). Electronic comments on this proposed rule via http://www.regulations.gov must be submitted by 11:59 p.m. Eastern time on June 30, 2015. Comments submitted by mail must be postmarked no later than June 30, 2015. Comments on the information collection must be submitted by May 22, 2015.

ADDRESSES: You may submit comments on the April 1, 2015, proposed rule by one of the following methods:

(1) Electronically: Go to the Federal eRulemaking Portal: http://www.regulations.gov. In the Search box, enter FWS-R9-MB-2009-0045, which is the docket number for this rulemaking. You may submit a comment by clicking on “Comment Now!”

(2) By hard copy: Submit by U.S. mail or hand-delivery to: Public Comments Processing, Attn: FWS-R9-MB-2009-0045; Division of Policy, Performance, and Management Programs; U.S. Fish and Wildlife Service, MS: BPHC; 5275 Leesburg Pike; Falls Church, VA 22041-3803.

We will not accept emailed or faxed comments on the proposed rule. We will post all comments on http://www.regulations.gov. This generally means that we will post any personal information that you provide. See the Public Comments section of the proposed rule for more information.

Submit comments on the information collection requirements to the Desk Officer for the Department of the Interior at Office of Management and Budget (OMB-OIRA) at (202) 395-5806 (fax) or OIRA_Submission@omb.eop.gov (email). Please provide a copy of your comments to the Service Information Collection Clearance Officer, U.S. Fish and Wildlife Service, MS: BPHC, 5275 Leesburg Pike, Falls Church, VA 22041-3803 (mail), or Hope_Grey@fws.gov (email).

FOR FURTHER INFORMATION CONTACT: George Allen at 703-358-1825.

SUPPLEMENTARY INFORMATION: In a proposed rule that published in the Federal Register on April 1, 2015, at 80 FR 17374, the ADDRESSES section provided some incorrect information for the submission of hard-copy comments. The corrected address appears above in ADDRESSES.

In addition, the section of the preamble with the subtitle Paperwork Reduction Act, beginning on page 17377, contained several errors. For the convenience of the reader, we are republishing that entire section here.

Paperwork Reduction Act of 1995 (PRA)

This proposed rule contains new information collection requirements for which Office of Management and Budget approval is required under the PRA (44 U.S.C. 3501 et seq.). We may not conduct or sponsor and you are not required to respond to a collection of information unless it displays a currently valid OMB control number.

OMB has reviewed and approved the collections of information for (1) applications for abatement and depredation permits, (2) annual reporting for depredation permits, and (3) reporting of acquisition and disposition of migratory birds. These information collections are covered by existing OMB Control No. 1018-0022, which expires on May 31, 2017. OMB has also approved the recordkeeping and reporting associated with the depredation order for blackbirds, grackles, cowbirds, magpies, and crows and assigned OMB Control Number 1018-0146, which expires December 31, 2017.

We are requesting that OMB assign a new OMB control number for the proposed new requirements below. After we issue final regulations, we will incorporate the burden for the new information collection requirements into OMB Control Number 1018-0022 and discontinue the new number.

• Application—FWS Form 3-200-79. We are revising the application form to reflect the increase in the application fee from $100 to $150.

• Abatement permittees must provide each of their subpermittees with a legible copy of their permit and an original signed and dated letter designating the person as a subpermittee for part or all of the authorized activities. (§ 21.32(e)(2)(ii)).

• Subpermittees must report take under a depredation order to the permit holder. (§ 21.32(e)(3)(iii)(A)).

• Permittees must immediately report any unauthorized take of federally protected wildlife, disturbance of bald eagles or golden eagles, or harassment of endangered species. (§ 21.32(e)(3)(iii)(C)).

• Permittees must maintain complete and accurate records of the activities conducted under the abatement permit. (§§ 21.32(e)(2)(iv), 21.32(e)(8)(ii) and (iii), 21.32(e)(11), and 21.32(g)).

• Permittees must submit an annual report to their migratory bird permit issuing office. The report must include the information required on FWS Form 3-202-22-2133. (§ 21.32(e)(12)).

Title: Abatement Permit Reporting and Recordkeeping, 50 CFR 21.32.

OMB Control Number: 1018-XXXX.

Type of Request: Request for a new OMB control number.

Service Form Number: 3-200-79 and 3-202-22-2133.

Description of Respondents: Individuals.

Respondent's Obligation: Required to obtain or retain a benefit.

Frequency of Collection: On occasion.

Estimated Nonhour Burden Costs: $15,000 for application fees.

Activity | Number of responses | Completion time per response | Total annual burden hours
Application—FWS Form 3-200-79 | 100 | 2 hours | 200
Designation Letter (§ 21.32(e)(2)(ii)) | 200 | 10 minutes | 33
Report Take under Depredation Order (§ 21.32(e)(3)(iii)(A)) | 200 | 1 hour | 200
Report Unauthorized Take of Federally Protected Wildlife, Disturbance of Bald Eagles or Golden Eagles, or Harassment of Endangered Species (§ 21.32(e)(3)(iii)(C)) | 4 | 30 minutes | 2
Recordkeeping (§§ 21.32(e)(2)(iv), 21.32(e)(8)(ii) and (iii), 21.32(e)(11), and 21.32(g)) | 100 | 5 hours | 500
Annual Reports (§ 21.32(e)(12)) | 100 | 1 hour | 100
Totals | 704 |  | 1,035

You may review all documents submitted to OMB to support the proposed new information collection requirements online at http://www.reginfo.gov. Follow the instructions to review Department of the Interior collections under review by OMB.

As part of our continuing effort to reduce paperwork and respondent burdens, we invite the public and other Federal agencies to comment on any aspect of the reporting burden, including:

• Whether or not the collection of information is necessary, including whether or not the information will have practical utility;

• The accuracy of our estimate of the burden for this collection of information;

• Ways to enhance the quality, utility, and clarity of the information to be collected; and

• Ways to minimize the burden of the collection of information on respondents.

Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3830 (mail), or Hope_Grey@fws.gov (email).

Dated: April 13, 2015.
Michael J. Bean,
Principal Deputy Assistant Secretary for Fish and Wildlife and Parks.

[FR Doc. 2015-09283 Filed 4-21-15; 8:45 am]

BILLING CODE 4310-55-P